National Security Presidential Memorandum-3 of January 28, 2017

Plan To Defeat the Islamic State of Iraq and Syria

Memorandum for the Vice President[,] the Secretary of State[,] the Secretary of the Treasury[,] the Secretary of Defense[,] the Attorney General[,] the Secretary of Energy[,] the Secretary of Homeland Security[,] the Assistant to the President and Chief of Staff[,] the Director of National Intelligence[,] the Assistant to the President for National Security Affairs[,] the Counsel to the President[,] the Director of the Central Intelligence Agency[, and] the Chairman of the Joint Chiefs of Staff

The Islamic State of Iraq and Syria, or ISIS, is not the only threat from radical Islamic terrorism that the United States faces, but it is among the most vicious and aggressive. It is also attempting to create its own state, which ISIS claims as a “caliphate.” But there can be no accommodation or negotiation with it. For those reasons I am directing my Administration to develop a comprehensive plan to defeat ISIS.

ISIS is responsible for the violent murder of American citizens in the Middle East, including the beheadings of James Foley, Steven Sotloff, and Peter Abdul-Rahman Kassig, as well as the death of Kayla Mueller. In addition, ISIS has inspired attacks in the United States, including the December 2015 attack in San Bernardino, California, and the June 2016 attack in Orlando, Florida. ISIS is complicit in a number of terrorist attacks on our allies in which Americans have been wounded or killed, such as the November 2015 attack in Paris, France, the March 2016 attack in Brussels, Belgium, the July 2016 attack in Nice, France, and the December 2016 attack in Berlin, Germany.

ISIS has engaged in a systematic campaign of persecution and extermination in those territories it enters or controls. If ISIS is left in power, the threat that it poses will only grow. We know it has attempted to develop chemical weapons capability. It continues to radicalize our own citizens, and its attacks against our allies and partners continue to mount. The United States must take decisive action to defeat ISIS.

Sec. 1. Policy. It is the policy of the United States that ISIS be defeated.

Sec. 2. Policy Coordination. Policy coordination, guidance, dispute resolution, and periodic in-progress reviews for the functions and programs described and assigned in this memorandum shall be provided through the interagency process established in National Security Presidential Memorandum-2 of January 28, 2017 (Organization of the National Security Council and the Homeland Security Council), or any successor.

Sec. 3. Plan to Defeat ISIS. (a) Scope and Timing.

(i) Development of a new plan to defeat ISIS (the Plan) shall commence immediately.

(ii) Within 30 days, a preliminary draft of the Plan to defeat ISIS shall be submitted to the President by the Secretary of Defense.

(iii) The Plan shall include:

(A) a comprehensive strategy and plans for the defeat of ISIS;

(B) recommended changes to any United States rules of engagement and other United States policy restrictions that exceed the requirements of international law regarding the use of force against ISIS;

(C) public diplomacy, information operations, and cyber strategies to isolate and delegitimize ISIS and its radical Islamist ideology;

(D) identification of new coalition partners in the fight against ISIS and policies to empower coalition partners to fight ISIS and its affiliates;

(E) mechanisms to cut off or seize ISIS's financial support, including financial transfers, money laundering, oil revenue, human trafficking, sales of looted art and historical artifacts, and other revenue sources; and

(F) a detailed strategy to robustly fund the Plan.

(b) Participants. The Secretary of Defense shall develop the Plan in collaboration with the Secretary of State, the Secretary of the Treasury, the Secretary of Homeland Security, the Director of National Intelligence, the Chairman of the Joint Chiefs of Staff, the Assistant to the President for National Security Affairs, and the Assistant to the President for Homeland Security and Counterterrorism.

(c) Development of the Plan. Consistent with applicable law, the Participants identified in subsection (b) of this section shall compile all information in the possession of the Federal Government relevant to the defeat of ISIS and its affiliates. All executive departments and agencies shall, to the extent permitted by law, promptly comply with any request of the Participants to provide information in their possession or control pertaining to ISIS. The Participants may seek further information relevant to the Plan from any appropriate source.

(d) The Secretary of Defense is hereby authorized and directed to publish this memorandum in the Federal Register.

THE WHITE HOUSE,

Washington, January 28, 2017

[FR Doc. 2017-02386

Filed 2-1-17; 11:15 am]

Billing code 3295-F7-P